DEPARTMENT OF COMMERCE

National Oceanic and Atmospheric Administration

50 CFR Part 660

[Docket No. 151117999-6370-01]

RIN 0648-XE680

Fisheries Off West Coast States; Modifications of the West Coast Commercial and Recreational Salmon Fisheries; Inseason Actions #6 Through #21

AGENCY: National Marine Fisheries Service (NMFS), National Oceanic and Atmospheric Administration (NOAA), Commerce.

ACTION: Modification of fishing seasons; request for comments.

SUMMARY: NMFS announces 16 inseason actions in the ocean salmon fisheries. These inseason actions modified the commercial and recreational salmon fisheries in the area from the U.S./Canada border to the U.S./Mexico border.

DATES: The effective dates for the inseason actions are set out in this document under the heading Inseason Actions. Comments will be accepted through December 21, 2016.

ADDRESSES: You may submit comments, identified by NOAA-NMFS-2016-0007, by any one of the following methods:

• Electronic Submissions: Submit all electronic public comments via the Federal eRulemaking Portal. Go to www.regulations.gov/#!docketDetail;D=NOAA-NMFS-2016-0007, click the “Comment Now!” icon, complete the required fields, and enter or attach your comments.

• Mail: Barry A. Thom, Regional Administrator, West Coast Region, NMFS, 7600 Sand Point Way NE., Seattle, WA 98115-6349

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter“N/A” in the required fields if you wish to remain anonymous).

FOR FURTHER INFORMATION CONTACT: Peggy Mundy at 206-526-4323.

SUPPLEMENTARY INFORMATION:

Background

In the 2016 annual management measures for ocean salmon fisheries (81 FR 26157, May 2, 2016), NMFS announced the commercial and recreational fisheries in the area from the U.S./Canada border to the U.S./Mexico border, beginning May 1, 2016, and 2017 salmon fisheries opening earlier than May 1, 2017. NMFS is authorized to implement inseason management actions to modify fishing seasons and quotas as necessary to provide fishing opportunity while meeting management objectives for the affected species (50 CFR 660.409). Inseason actions in the salmon fishery may be taken directly by NMFS (50 CFR 660.409(a)—Fixed inseason management provisions) or upon consultation with the Pacific Fishery Management Council (Council) and the appropriate State Directors (50 CFR 660.409(b)—Flexible inseason management provisions). The state management agencies that participated in the consultations described in this document were: Washington Department of Fish and Wildlife (WDFW), Oregon Department of Fish and Wildlife (ODFW), and California Department of Fish and Wildlife (CDFW).

Management of the salmon fisheries is generally divided into two geographic areas: north of Cape Falcon (U.S./Canada border to Cape Falcon, OR) and south of Cape Falcon (Cape Falcon, OR, to the U.S./Mexico border). The inseason actions reported in this document affected fisheries north and south of Cape Falcon. Within the north of Cape Falcon area, there are four management subareas: The Neah Bay subarea (also known as Washington state marine area 4) extends from the U.S./Canada border to Cape Alava, WA; the La Push subarea (also known as Washington state marine area 3) extends from Cape Alava, WA, to the Queets River, WA; the Westport subarea (also known as Washington state marine area 2) extends from the Queets River, WA, to Leadbetter Point, WA; and the Columbia River subarea (which includes Washington state marine area 1) extends from Leadbetter Point, WA, to Cape Falcon, OR. All times mentioned refer to Pacific daylight time.

Inseason Actions

Inseason Action #6

Description of action: Inseason action #6 cancelled the commercial ocean salmon fishery from Cape Alava to the Queets River (La Push subarea) previously scheduled for June 10-16, 2016 and June 24-30, 2016.

Effective dates: Inseason action #6 took effect on June 10, 2016, and remained in effect through June 30, 2016.

Reason and authorization for the action: The purpose of this action, in combination with inseason action #7, was to avoid exceeding the guideline set preseason for the Neah Bay and La Push subareas. The Regional Administrator (RA) considered Chinook landings to date and fishery effort and determined that this inseason action was necessary to meet the guideline set preseason. Inseason action to modify quotas and/or fishing seasons is authorized by 50 CFR 660.409(b)(1)(i).

Consultation date and participants: Consultation on inseason action #6 occurred on June 8, 2016. Participants in this consultation were staff from NMFS, Council, WDFW, and ODFW.

Inseason Action #7

Description of action: Inseason action #7 reduced the landing limit in the commercial ocean salmon fishery in the area from the U.S./Canada Border to Cape Alava (Neah Bay subarea, also known as Washington State Marine Area 4) from 40 Chinook per vessel per open period to 15 Chinook per vessel per open period. All fishers intending to fish north of Cape Alava must declare that intention before fishing by first notifying WDFW at 360-249-1215 with the following information: Boat name and approximate time they intend to fish in Washington State Marine Area 4, and destination at the end of the trip. All fish from Washington State Marine Area 4 must be landed before fishing any other area. All salmon from other areas must be landed before fishing for salmon in Washington State Marine Area 4. It is unlawful to possess salmon on board from any other area while also possessing salmon from Washington State Marine Area 4.

Effective dates: Inseason action #7 took effect on June 10, 2016, and remained in effect until superseded by inseason action #9 on June 24, 2016.

Reason and authorization for the action: The purpose of this action, in combination with inseason action #6, was to avoid exceeding the guideline set preseason for the Neah Bay and La Push subareas. The RA considered Chinook landings to date and fishery effort, and determined that this inseason action was necessary to meet the guideline set preseason. Inseason action to modify limited retention regulations is authorized by 50 CFR 660.409(b)(1)(ii).

Consultation date and participants: Consultation on inseason action #7 occurred on June 8, 2016. Participants in this consultation were staff from NMFS, Council, WDFW, and ODFW.

Inseason Action #8

Description of action: Inseason action #8 increased the landing limit in the commercial ocean salmon fishery in the area from the Queets River to Cape Falcon, OR (Westport and Columbia River subareas), from 40 Chinook per vessel per open period to 65 Chinook per vessel per open period.

Effective dates: Inseason action #8 took effect on June 10, 2016, and remained in effect until superseded by inseason action #10 on June 24, 2016.

Reason and authorization for the action: The purpose of this action was to allow greater access to available quota. The RA considered Chinook landings to date and fishery efforts, and determined that inseason action was required to allow the greater access to remaining Chinook quota in the May-June commercial fishery in the Westport and Columbia River subareas. Inseason action to modify limited retention regulations is authorized by 50 CFR 660.409(b)(1)(ii).

Consultation date and participants: Consultation on inseason action #8 occurred on June 8, 2016. Participants in this consultation were staff from NMFS, Council, WDFW, and ODFW.

Inseason Action #9

Description of action: Inseason action #9 reduced the landing limit in the commercial ocean salmon fishery in the area from the U.S./Canada Border to Cape Alava (Neah Bay subarea, also known as Washington State Marine Area 4) from 15 Chinook per vessel per open period to 14 Chinook per vessel per open period. All fishers intending to fish north of Cape Alava must declare that intention before fishing by first notifying WDFW at 360-249-1215 with the following information: boat name and approximate time they intend to fish in Washington State Marine Area 4, and destination at the end of the trip. All fish from Washington State Marine Area 4 must be landed before fishing any other area. All salmon from other areas must be landed before fishing for salmon in Washington State Marine Area 4. It is unlawful to possess salmon on board from any other area while also possessing salmon from Washington State Marine Area 4.

Effective dates: Inseason action #9 superseded inseason action #7 on June 24, 2016, and remained in effect through June 30, 2016.

Reason and authorization for the action: The purpose of this action was to avoid exceeding the guideline set preseason for the Neah Bay and La Push subareas. The RA considered Chinook landings to date and fishery effort, and determined that this inseason action was necessary to meet the guideline set preseason. Inseason action to modify limited retention regulations is authorized by 50 CFR 660.409(b)(1)(ii).

Consultation date and participants: Consultation on inseason action #9 occurred on June 22, 2016. Participants in this consultation were staff from NMFS, Council, WDFW, and ODFW.

Inseason Action #10

Description of action: Inseason action #10 decreased the landing limit in the commercial ocean salmon fishery in the area from the Queets River to Cape Falcon, OR (Westport and Columbia River subareas), from 65 Chinook per vessel per open period to 40 Chinook per vessel per open period.

Effective dates: Inseason action #10 superseded inseason action #8 on June 24, 2016, and remained in effect through June 30, 2016.

Reason and authorization for the action: The purpose of this action was to avoid exceeding the quota set preseason for the May-June fishery. The RA considered Chinook landings to date and fishery effort and determined that inseason action was required due to increased fishing effort and landings. Inseason action to modify limited retention regulations is authorized by 50 CFR 660.409(b)(1)(ii).

Consultation date and participants: Consultation on inseason action #10 occurred on June 22, 2016. Participants in this consultation were staff from NMFS, Council, WDFW, and ODFW.

Inseason Action #11

Description of action: Inseason action #11 increased the landing limit in the commercial ocean salmon fishery in the area from the U.S./Canada Border to Queets River, WA (Neah Bay and La Push subareas), from 50 Chinook per vessel per open period to 60 Chinook per vessel per open period.

Effective dates: Inseason action #11 took effect on July 8, 2016, and remained in effect until superseded by inseason action #16 on July 22, 2016.

Reason and authorization for the action: The purpose of this action was to allow access to available quota in the summer Chinook fishery. The RA considered Chinook landings and effort in the May-June fishery and the anticipated reduction in effort due to some fishers leaving the north of Falcon salmon fishery for other fisheries (i.e., tuna and Alaska salmon) and determined that inseason action was appropriate to provide access to the available quota. Inseason action to modify limited retention regulations is authorized by 50 CFR 660.409(b)(1)(ii).

Consultation date and participants: Consultation on inseason action #11 occurred on June 22, 2016. Participants in this consultation were staff from NMFS, Council, WDFW, and ODFW.

Inseason Action #12

Description of action: Inseason action #12 increased the landing limit in the commercial ocean salmon fishery in the area from Queets River, WA, to Cape Falcon, OR (Westport and Columbia River subareas), from 50 Chinook per vessel per open period to 80 Chinook per vessel per open period.

Effective dates: Inseason action #12 took effect on July 8, 2016, and remained in effect until superseded by inseason action #16 on July 22, 2016.

Reason and authorization for the action: The purpose of this action was to allow access to available quota in the summer Chinook fishery. The RA considered Chinook landings and effort in the May-June fishery and the anticipated reduction in effort due to some fishers leaving the north of Falcon salmon fishery for other fisheries (i.e., tuna and Alaska salmon) and determined that inseason action was appropriate to provide access to the available quota. Inseason action to modify limited retention regulations is authorized by 50 CFR 660.409(b)(1)(ii).

Consultation date and participants: Consultation on inseason action #12 occurred on June 22, 2016. Participants in this consultation were staff from NMFS, Council, WDFW, and ODFW.

Inseason Action #13

Description of action: Inseason action #13 extended retention of Pacific halibut caught incidental to commercial ocean salmon fishing (U.S./Canada border to U.S./Mexico border) beyond the June 30, 2016, closure date announced preseason. Pacific halibut retention will continue without any changes to landing and possession requirements until further notice.

Effective dates: Inseason action #13 took effect on July 1, 2016, and remains in effect until the earlier of the end of the 2016 commercial salmon season or until the remaining allocation of incidental halibut is landed, when a closure will be implemented by inseason action.

Reason and authorization for the action: The International Pacific Halibut Commission (IPHC) establishes an annual allocation of Pacific halibut that can be retained when caught incidental to commercial salmon fishing by fishers who possess the necessary IPHC license. The annual ocean salmon management measures (81 FR 26157, May 2, 2016) authorized halibut retention only during April, May, and June of the 2016 commercial salmon seasons and after June 30, 2016, if quota remains. The RA considered Pacific halibut and Chinook salmon landings to date, and fishery effort, and determined that sufficient halibut allocation remained to allow retention to continue for the foreseeable future. Inseason action to modify quotas and/or fishing seasons is authorized by 50 CFR 660.409(b)(1)(i).

Consultation date and participants: Consultation on inseason action #13 occurred on June 22, 2016. Participants in this consultation were staff from NMFS, Council, WDFW, ODFW, and CDFW.

Inseason Action #14

Description of action: Inseason action #14 increased the landing limit in the commercial ocean salmon fishery from Cape Falcon, OR, to Humbug Mountain, OR, beginning September 1, from 40 Chinook per vessel per landing week (Thursday through Wednesday) to 45 Chinook per vessel per landing week (Thursday through Wednesday).

Effective dates: Inseason action #14 took effect September 1, 2016, and remains in effect until the end of the fishery, October 31, 2016, unless superseded by inseason action.

Reason and authorization for the action: This action was taken to implement guidance provided by the State of Oregon at the April 2016 Council meeting. The RA considered the information from the Council records and concurred with making this adjustment inseason. Inseason action to modify limited retention regulations is authorized by 50 CFR 660.409(b)(1)(ii).

Consultation date and participants: Consultation on inseason action #14 occurred on June 22, 2016. Participants in this consultation were staff from NMFS, Council, ODFW, and CDFW.

Inseason Action #15

Description of action: Inseason action #15 adjusted the Chinook salmon quota in the commercial ocean salmon fishery from Humbug Mountain, OR, to the Oregon/California border for the month of July 2016 from 200 Chinook to 594 Chinook, due to a rollover of unused quota from June.

Effective dates: Inseason action #15 took effect on July 8, 2016, and remained in effect through July 31, 2016.

Reason and authorization for the action: The annual ocean salmon management measures (81 FR 26157, May 2, 2016) for the commercial ocean salmon fishery in the Oregon Klamath Management Zone (Humbug Mountain, OR, to the Oregon/California border) include the following provision: Any remaining portion of the June Chinook quota may be transferred inseason on an impact-neutral basis to the July quota period. The June fishery closed with 510 Chinook salmon remaining on the quota. The Council's Salmon Technical Team calculated the rollover of these fish from the June-to-July fishing period on an impact neutral basis for Klamath River fall Chinook salmon. The resulting rollover amount was 394 Chinook; this was added to the 200 Chinook quota set preseason for July, for a total adjusted July quota of 594 Chinook salmon. The RA concurred with this impact-neutral rollover of quota. Inseason action to modify quotas and/or fishing seasons is authorized by 50 CFR 660.409(b)(1)(i).

Consultation date and participants: Consultation on inseason action #15 occurred on July 8, 2016. Participants in this consultation were staff from NMFS, Council, ODFW, and CDFW.

Inseason Action #16

Description of action: Inseason action #16 increased the landing limit in the commercial ocean salmon fishery from 60 Chinook per vessel per open period to 125 Chinook per vessel per open period in the area from the U.S./Canada border to Queets River, WA (Neah Bay and La Push subareas), and from 60 Chinook per vessel per open period to 150 Chinook per vessel per open period in the area from Queets River, WA, to Cape Falcon, OR (Westport and Columbia River subareas).

Effective dates: Inseason action #16 superseded inseason actions #11 and #12 on July 22, 2016, and remained in effect until superseded by inseason action #18 on August 1, 2016.

Reason and authorization for the action: The purpose of this action was to allow greater access to available quota. The RA considered Chinook landings to date and fishery efforts, and determined that inseason action was required to allow the greater access to remaining Chinook quota. Inseason action to modify limited retention regulations is authorized by 50 CFR 660.409(b)(1)(ii).

Consultation date and participants: Consultation on inseason action #16 occurred on July 20, 2016. Participants in this consultation were staff from NMFS, Council, WDFW, and ODFW.

Inseason Action #17

Description of action: Inseason action #17 adjusted the daily bag limit in the recreational ocean salmon fishery from Queets River, WA, to Leadbetter Point, WA (Westport subarea), to allow retention of two Chinook; previously only one Chinook was allowed.

Effective dates: Inseason action #17 took effect on July 23, 2016, and remained in effect through August 21, 2016.

Reason and authorization for the action: This action was taken to allow greater access to available quota. The RA considered Chinook landings to date and fishery efforts, and determined that inseason action was required to allow the greater access to remaining Chinook quota. Inseason action to modify recreational bag limits is authorized by 50 CFR 660.409(b)(1)(iii).

Consultation date and participants: Consultation on inseason action #17 occurred on July 20, 2016. Participants in this consultation were staff from NMFS, Council, WDFW, and ODFW.

Inseason Action #18

Description of action: Inseason action #18 increased the landing limit in the commercial ocean salmon fishery from the U.S./Canada border to Cape Falcon, OR, to 225 Chinook per vessel per open period. Previously, under inseason action #16, the landing limits were 125 Chinook in the Neah Bay and La Push subareas, and 150 Chinook in the Westport and Columbia River subareas.

Effective dates: Inseason action #18 superseded inseason action #16 on August 1, 2016, and remained in effect until superseded by inseason action #20 on August 15, 2016.

Reason and authorization for the action: The purpose of this action was to allow greater access to available quota. The RA considered Chinook landings to date and fishery efforts, and determined that inseason action was required to allow the greater access to remaining Chinook quota. Inseason action to modify limited retention regulations is authorized by 50 CFR 660.409(b)(1)(ii).

Consultation date and participants: Consultation on inseason action #18 occurred on July 29, 2016. Participants in this consultation were staff from NMFS, Council, WDFW, and ODFW.

Inseason Action #19

Description of action: Inseason action #19 adjusted the daily bag limit in the recreational ocean salmon fishery from Leadbetter Point, WA, to Cape Falcon, OR (Columbia River subarea), to allow retention of two Chinook; previously only one Chinook was allowed.

Effective dates: Inseason action #19 took effect on August 16, 2016, and remained in effect until the fishery was closed on August 27, 2016, under inseason action #21.

Reason and authorization for the action: This action was taken to allow greater access to available quota. The RA considered Chinook landings to date and fishery efforts, and determined that inseason action was required to allow the greater access to remaining Chinook quota. Inseason action to modify recreational bag limits is authorized by 50 CFR 660.409(b)(1)(iii).

Consultation date and participants: Consultation on inseason action #19 occurred on August 10, 2016. Participants in this consultation were staff from NMFS, Council, WDFW, and ODFW.

Inseason Action #20

Description of action: Inseason action #20 increased the landing limit in the commercial ocean salmon fishery from the U.S./Canada border to Cape Falcon, OR, from 225 Chinook per vessel per open period to 300 Chinook per vessel per open period.

Effective dates: Inseason action #20 superseded inseason action #18 on August 15, 2016, and remained in effect through August 23, 2016.

Reason and authorization for the action: The purpose of this action was to allow greater access to available quota. The RA considered Chinook landings to date and fishery efforts, and determined that inseason action was required to allow the greater access to remaining Chinook quota. Inseason action to modify limited retention regulations is authorized by 50 CFR 660.409(b)(1)(ii).

Consultation date and participants: Consultation on inseason action #20 occurred on August 10, 2016. Participants in this consultation were staff from NMFS, Council, WDFW, and ODFW.

Inseason Action #21

Description of action: Inseason action #21 closed the recreational ocean salmon fishery from Leadbetter Point, WA, to Cape Falcon, OR (Columbia River subarea), at 11:59 p.m., Saturday, August 27, 2016.

Effective dates: Inseason action #21 took effect at 11:59 p.m., Saturday, August 27, 2016.

Reason and authorization for the action: This action was taken in response to recent increases in fishing effort and catch of coho salmon in the Columbia River subarea, and fishery forecasts that projected the coho quota would soon be attained. The RA considered coho landings to date and fishery efforts, and determined that inseason action was required to avoid exceeding the coho quota for this fishery. Inseason action to close salmon fisheries when attainment of the quota is projected is authorized by 50 CFR 660.409(a)(1).

Consultation date and participants: Consultation on inseason action #21 occurred on August 26, 2016. Participants in this consultation were staff from NMFS, Council, WDFW, and ODFW.

All other restrictions and regulations remain in effect as announced for the 2016 ocean salmon fisheries and 2017 salmon fisheries opening prior to May 1, 2017 (81 FR 26157, May 2, 2016) and as modified by prior inseason actions.

The RA determined that the best available information indicated that halibut, coho, and Chinook salmon abundance forecasts and expected fishery effort supported the above inseason actions recommended by the states of Washington and Oregon. The states manage the fisheries in state waters adjacent to the areas of the U.S. exclusive economic zone in accordance with these Federal actions. As provided by the inseason notice procedures of 50 CFR 660.411, actual notice of the described regulatory actions was given, prior to the time the action was effective, by telephone hotline numbers 206-526-6667 and 800-662-9825, and by U.S. Coast Guard Notice to Mariners broadcasts on Channel 16 VHF-FM and 2182 kHz.

Classification

The Assistant Administrator for Fisheries, NOAA (AA), finds that good cause exists for this notification to be issued without affording prior notice and opportunity for public comment under 5 U.S.C. 553(b)(B) because such notification would be impracticable. As previously noted, actual notice of the regulatory actions was provided to fishers through telephone hotline and radio notification. These actions comply with the requirements of the annual management measures for ocean salmon fisheries (81 FR 26157, May 2, 2016), the FMP, and regulations implementing the FMP (50 CFR 660.409 and 660.411). Prior notice and opportunity for public comment was impracticable because NMFS and the state agencies had insufficient time to provide for prior notice and the opportunity for public comment between the time Chinook salmon catch and effort projections were developed and fisheries impacts were calculated, and the time the fishery modifications had to be implemented in order to ensure that fisheries are managed based on the best available scientific information, ensuring that conservation objectives and ESA consultation standards are not exceeded. The AA also finds good cause to waive the 30-day delay in effectiveness required under 5 U.S.C. 553(d)(3), as a delay in effectiveness of these actions would allow fishing at levels inconsistent with the goals of the FMP and the current management measures.

These actions are authorized by 50 CFR 660.409 and 660.411 and are exempt from review under Executive Order 12866.

Authority: 16 U.S.C. 1801 et seq.

Dated: November 30, 2016.
Emily H. Menashes,
Acting Director, Office of Sustainable Fisheries, National Marine Fisheries Service.

[FR Doc. 2016-29135 Filed 12-5-16; 8:45 am]

BILLING CODE 3510-22-P